DEPARTMENT OF HEALTH AND HUMAN SERVICES

National Institutes of Health

National Library of Medicine; Amended Notice of Meeting

Notice is hereby given of a change in the meeting of the Board of Scientific Counselors, April 23, 2020, 9:00 a.m. to 5:00 p.m., National Library of Medicine, Building 38, Lindberg Room, 8600 Rockville Pike, Bethesda, MD 20892 which was published in the Federal Register on February 4, 2020, 85 FR 23, Page 6209.

The meeting of the Board of Scientific Counselors will now be a closed and virtual meeting due to review of individual investigators and the travel/meeting guidance.

Dated: March 17, 2020.
Ronald J. Livingston, Jr.,
Program Analyst, Office of Federal Advisory Committee Policy.

[FR Doc. 2020-05971 Filed 3-20-20; 8:45 am]

BILLING CODE 4140-01-P